SMALL BUSINESS ADMINISTRATION

[Declaration of Disaster #P018]

U.S. Virgin Islands

As a result of the President's major disaster declaration for Public Assistance on December 9, 2003 the U.S. Small Business Administration is activating its disaster loan program only for private non-profit organizations that provide essential services of a governmental nature. I find that St. Croix, St. John, and St. Thomas, including Water Island, in the U.S. Virgin Islands constitute a disaster area due to damages caused by severe storms, flooding, landslides and mudslides occurring on November 10 through November 16, 2003. Applications for loans for physical damage as a result of this disaster may be filed until the close of business on February 9, 2004, at the address listed below or other locally announced locations: U.S. Small Business Administration, Disaster Area 1 Office, 360 Rainbow Blvd., South, 3rd Floor, Niagara Falls, NY 14303.

The interest rates are:

For Physical Damage

Non-profit organizations without credit available elsewhere—3.061%

Non-profit organizations with credit available elsewhere—4.875%

The number assigned to this disaster for physical damage is P01806.

(Catalog of Federal Domestic Assistance Program Nos. 59008.)
Dated: December 11, 2003.
Herbert L. Mitchell,
Associate Administrator for Disaster Assistance.

[FR Doc. 03-31387 Filed 12-19-03; 8:45 am]

BILLING CODE 8025-01-P